DEPARTMENT OF AGRICULTURE

[Docket No. 00-045-1]

Office of the Secretary; Declaration of Emergency Because of Rabies

Wildlife is the dominant reservoir for rabies in the United States. Rabies transmission from wildlife carnivores poses a serious threat to animal and human health in the United States. Rabid raccoons, foxes, and coyotes attack large farm animals not normally considered prey, such as cattle. Larger farm animals often survive these attacks and become infected with rabies. Humans who work in close contact with infected livestock, as well as other animals that come in contact with such livestock, are at risk of exposure to rabies. In addition, the agricultural environment often provides food and refuge that are attractions for wildlife that may in turn directly place farmers, ranchers, their families, and other people in rural communities at risk of exposure to rabies.

If new rabies strains such as those transmitted by raccoons, gray foxes, and coyotes are not prevented from spreading to broader areas of the United States, the health threats and costs associated with rabies are expected to increase substantially. In the area that stretches west from the leading edge of the current distribution of raccoon rabies (which stretches from Alabama northeastward along the western edge of the Appalachian Mountains to Maine) to the Rocky Mountains, and north from the distribution of gray fox and coyote rabies in Texas, there are more than 111 million livestock animals—including cattle, horses, mules, swine, goats, and sheep—valued at $42 billion. If raccoon, gray fox, or coyote rabies were to spread into the above described area, the livestock there would be at risk to these specific rabies variants. Additionally, raccoon, coyote, and fox rabies-related costs for human health care, education, vaccination, and animal control in the United States currently exceed $450 million annually. These costs are expected to increase substantially if rabies is allowed to spread into the described area.

In recent years, the Animal and Plant Health Inspection Service (APHIS) and the States affected by rabies have been working cooperatively to address rabies outbreaks by implementing an oral rabies vaccination program (ORVP), which establishes and maintains immunization barriers to control the disease within the outbreak zone and prevent its spread to new areas. APHIS contributed $1.3 million in FY 1998 and $1.5 million in FY 1999 and FY 2000 toward these rabies control efforts. While vaccination barriers have been established, reduced State funding in Texas and rapid expansion of raccoon rabies in the northeastern and midwestern portions of the United States threaten to compromise the established ORVP barriers.

The Texas ORVP

Since the program's inception in 1995, the Texas ORVP has been successful in controlling the outbreak of rabies in coyotes, but the rabies outbreak in gray foxes presents a more complex challenge. The objective of the gray fox program has been to encircle the outbreak with a barrier of vaccinated foxes and then move inward, reducing the geographic distribution of fox rabies within the outbreak zone. So far, the program has been successful in halting the spread of the disease. No rabies cases have developed in gray foxes beyond the established ORVP barrier. However, these program gains and any potential advances are in jeopardy. Due to reduced State funding levels this year, the State of Texas is unable to maintain the entire ORVP barrier for gray foxes. The State has enough funds to maintain only the eastern side of the ORVP barrier. This limitation compromises the health and safety of livestock, other animals, and humans. Reestablishing the entire ORVP barrier for gray foxes and continuing to eliminate rabies within the outbreak zone are critical.

The Ohio, Pennsylvania, and West Virginia ORVP

Since 1998, APHIS and the State of Ohio have been working cooperatively to establish a vaccination barrier against raccoon rabies on the State's eastern border. The current Ohio barrier extends from Lake Erie to East Liverpool and was strategically placed to halt the westward spread of raccoon rabies. A recent case of raccoon rabies on the West Virginia side of the Ohio River, however, suggests that the current barrier is inadequate and should be expanded. APHIS and State officials have determined that an effective barrier would require widening the existing barrier and extending it south to meet the Appalachian Ridge in West Virginia, where the mountainous habitat can also act as a geographical barrier to prevent the spread of rabies. By bridging the gap between the current Ohio barrier and the Appalachian Mountains, the program will reduce the risk of the disease entering the midwestern region of the United States, where it would increasingly threaten livestock, human populations, and other animals, and significantly raise the control costs throughout the region.

The Northeastern United States and Canadian Border ORVP

APHIS has also been working with the Departments of Health in Vermont and New York, several New York counties, Cornell University, and the Canadian Provinces of Quebec and Ontario to establish a rabies vaccination barrier along the U.S.-Canadian border. The northern border ORVP zone currently extends from Niagara Frontier in western New York to the St. Lawrence River, through the upper Lake Champlain Valley, and terminates in northern central Vermont. A gap in the barrier needs to be filled from its eastern point to the Connecticut River Valley in eastern Vermont and New Hampshire. APHIS and its cooperators have an opportunity to contain the movement of the disease by bridging the gaps in the barriers before the currently vaccinated area is compromised. This area is particularly susceptible due to the abundant raccoon populations present along the river systems. The further north and west the disease moves, the more likely it is that livestock, humans, and other animals will become exposed to infected wildlife. Vaccinating in these new corridors and adding sufficient width to existing barriers are critical to containing the northward spread of raccoon rabies.

So far, Ohio, Texas, and New York have provided the majority of funds for the cooperative programs. Pennsylvania and West Virginia do not have the resources to contribute to this effort or to conduct independent rabies control programs. The total amount of funding needed in FY 2000 to begin reestablishing an adequate ORVP in Texas and expanding existing ORVP's in the northeastern region of the United States and in Ohio is estimated to be $4.1 million ($0.4 million in New York, $0.3 million in Ohio, $1.5 million in Pennsylvania and West Virginia, $1.7 million in Texas, and $0.2 million in Vermont).

APHIS has insufficient funds to expand the ORVP in New York, Ohio, Pennsylvania, Texas, Vermont, and West Virginia. With additional funds, APHIS can continue the ORVP in these States, which is necessary to prevent the spread of rabies.

Therefore, in accordance with the provisions of the Act of September 25, 1981, as amended (7 U.S.C. 147b), I declare that there is an emergency that threatens the agricultural production industry in the United States, and I authorize the transfer and use of $4.1 million from the Commodity Credit Corporation of the United States Department of Agriculture for the continuation of the ORVP.

Effective Date: This declaration of emergency shall become effective November 3, 2000.
Dan Glickman,
Secretary of Agriculture.

[FR Doc. 00-31146 Filed 12-6-00; 8:45 am]

BILLING CODE 3410-34-U